DEPARTMENT OF COMMERCE

Bureau of Industry and Security

Agency Information Collection Activities; Submission to the Office of Management and Budget (OMB) for Review and Approval; Comment Request; License Exceptions and Other Authorizations

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 2, 2025, during a 60-day comment period. This notice allows for an additional 30 days for public comments.

Agency: Bureau of Industry and Security, Commerce.

Title: License Exceptions and Other Authorizations.

OMB Control Number: 0694-0137.

Form Number(s): None.

Type of Request: Regular submission, revision of a currently approved collection.

Number of Respondents: 31,785.

Average Hours per Response: 1.355 hours.

Burden Hours: 43,081 hours.

Needs and Uses: Over the years, the Bureau of Industry and Security has worked with other Government agencies and the affected public to identify areas where export licensing requirements may be relaxed without jeopardizing U.S. national security or foreign policy. Many of these relaxations have taken the form of licensing exceptions, as well as other types of authorizations or exclusions; BIS is revising the title of this collection of information to more accurately reflect the scope and language of the Export Administration Regulations. Some of these license exceptions and other authorizations have a reporting or recordkeeping requirement to enable the Government to continue to monitor exports of these items. Exporters may choose to utilize the license exception and accept the reporting or recordkeeping burden in lieu of submitting a license application. These exceptions and other authorizations have resulted in a large reduction of licensing burden in OMB Control No. 0694-0088 and allow exporters to ship less sensitive items quicker, without having to wait for license approval.

Affected Public: Business or other for-profit organizations.

Frequency: On occasion.

Respondent's Obligation: Voluntary.

Legal Authority: Export Control Reform Act (ECRA) of 2018 (Title XVII, Subtitle B of Pub. L. 115-232).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0694-0137.

Sheleen Dumas,
Departmental PRA Compliance Officer, Office of the Under Secretary for Economic Affairs, Commerce Department.

[FR Doc. 2025-23969 Filed 12-29-25; 8:45 am]

BILLING CODE 3510-33-P